INTERNATIONAL TRADE COMMISSION

[Investigation Nos. 731-TA-540-541 (Fifth Review)]

Certain Welded Stainless Steel Pipe From South Korea and Taiwan

Determinations

On the basis of the record ¹ developed in the subject five-year reviews, the United States International Trade Commission (“Commission”) determines, pursuant to the Tariff Act of 1930 (“the Act”), that revocation of the antidumping duty orders on certain welded stainless steel pipe from South Korea and Taiwan would be likely to lead to continuation or recurrence of material injury to an industry in the United States within a reasonably foreseeable time.

¹ The record is defined in § 207.2(f) of the Commission's Rules of Practice and Procedure (19 CFR 207.2(f)).

Background

The Commission instituted these reviews on May 2, 2022 (87 FR 25668) and determined on August 5, 2022, that it would conduct expedited reviews (87 FR 64112, October 21, 2022).

The Commission made these determinations pursuant to section 751(c) of the Act (19 U.S.C. 1675(c)). It completed and filed its determinations in these reviews on December 14, 2022. The views of the Commission are contained in USITC Publication 5395 (December 2022), entitled Welded Stainless Steel Pipe from South Korea and Taiwan: Investigation Nos. 731-TA-540-541 (Fifth Review).

By order of the Commission.
Issued: December 14, 2022.
Katherine Hiner,
Acting Secretary to the Commission.

[FR Doc. 2022-27452 Filed 12-16-22; 8:45 am]

BILLING CODE 7020-02-P